DEPARTMENT OF HEALTH AND HUMAN SERVICES

Centers for Disease Control and Prevention

CDC/HRSA Advisory Committee on HIV, Viral Hepatitis and STD Prevention and Treatment; Meeting

In accordance with section 10(a)(2) of the Federal Advisory Committee Act (Pub. L. 92-463), the Centers for Disease Control and Prevention (CDC), in concurrence with and the Health Resources and Services Administration (HRSA), announces the following meeting of the aforementioned committee:

Times and Dates:

8:30 a.m.-5:30 p.m., May 20, 2015 (CDC/HRSA Advisory Committee on HIV, Viral Hepatitis and STD Prevention and Treatment (CHAC) meeting).

9 a.m.-4:30 p.m., May 21, 2015 (CHAC and the Presidential Advisory Council on HIV/AIDS (PACHA) joint meeting).

Place: The CHAC meeting will be held at CDC Corporate Square, Building 8, Conference Room 1-ABC, Corporate Boulevard, Atlanta, Georgia 30329; telephone (404) 639-8317. The meeting is also accessible by teleconference: Local (Atlanta, Georgia) number (404) 553-8912, Conference ID: 8317483; Toll-free number +1 (855) 348-8390, Conference ID: 8317483.

The CHAC/PACHA joint meeting will be held at the W Hotel Atlanta Downtown, 45 Ivan Allen Jr. Boulevard, Salons 5 and 6, Atlanta, Georgia 30308; telephone (404) 582-5800.

Status: Both of the meetings are open to the public, limited only by the space available.

Purpose: This Committee is charged with advising the Director, CDC and the Administrator, HRSA, regarding activities related to prevention and control of HIV/AIDS, Viral Hepatitis and other STDs, the support of health care services to persons living with HIV/AIDS, and education of health professionals and the public about HIV/AIDS, Viral Hepatitis and other STDs.

Matters for Discussion: Agenda items include: (1) Role of STD clinics in Pre-Exposure Prophylaxis (PrEP); (2) Addressing Hepatitis C and HIV among people who inject drugs (PWID); (3) Update from viral hepatitis workgroup; and (4) considerations for the update of the National HIV/AIDS Strategy (joint meeting with PACHA).

Agenda items are subject to change as priorities dictate.

Contact Person For More Information: Margie Scott-Cseh, CDC, National Center for HIV/AIDS, Viral Hepatitis, STD, and TB Prevention, 1600 Clifton Road, NE., Mailstop E-07, Atlanta, Georgia 30333; telephone (404) 639-8317.

The Director, Management Analysis and Services Office, has been delegated the authority to sign Federal Register Notices pertaining to announcements of meetings and other committee management activities, for both the Centers for Disease Control and Prevention and the Agency for Toxic Substances and Disease Registry.

Catherine Ramadei,
Acting Director, Management Analysis and Services Office, Centers for Disease Control and Prevention.

[FR Doc. 2015-10306 Filed 5-1-15; 8:45 am]

BILLING CODE 4163-18-P